DEPARTMENT OF THE INTERIOR

Office of the Secretary

[189D0102DM, DLSN00000.000000, DS62400000, DX62401; OMB Control Number 1084-0010]

Agency Information Collection Activities; Claim for Relocation Payments—Residential, DI-381 and Claim for Relocation Payments—Nonresidential, DI-382

AGENCY: Office of Acquisition and Property Management, Office of the Secretary, Interior.

ACTION: Notice of information collection; request for comment.

SUMMARY: In accordance with the Paperwork Reduction Act of 1995, we, the Office of Acquisition and Property Management are proposing to renew an information collection.

DATES: Interested persons are invited to submit comments on or before November 15, 2018.

ADDRESSES: Send written comments on this information collection request (ICR) by mail to the Office of Management and Budget's Desk Officer for the Department of the Interior by email at OIRA_Submission@omb.eop.gov; or via facsimile to (202) 395-5806. Please provide a copy of your comments to Mary Heying, Department of the Interior, Office of Acquisition and Property Management, 1849 C St. NW, MS 4262 MIB, Washington, DC 20240, fax (202) 513-7645 or by email to mary_heying@ios.doi.gov. Please reference OMB Control Number 1084-0010 in the subject line of your comments.

FOR FURTHER INFORMATION CONTACT: To request additional information about this ICR, contact Mary Heying by email at mary_heying@ios.doi.gov, or by telephone at 202-513-0722. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format. A Federal Register notice with a 60-day public comment period soliciting comments on this collection of information was published on April 26, 2018 (83 FR 18342). No comments were received.

We are again soliciting comments on the proposed ICR that is described below. We are especially interested in public comment addressing the following issues: (1) Is the collection necessary to the proper functions of the Office of Acquisition and Property Management; (2) will this information be processed and used in a timely manner; (3) is the estimate of burden accurate; (4) how might the Office of Acquisition and Property Management enhance the quality, utility, and clarity of the information to be collected; and (5) how might the Office of Acquisition and Property Management minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: 42 U.S.C. 4601, Uniform Relocation Assistance and Real Property Acquisition Policies Act of 1970, as amended, requires each Federal agency acquiring real estate interests to provide relocation benefits to individuals and businesses displaced as a result of the acquisition. Form DI-381, Claim For Relocation Payments—Residential, and DI-382, Claim For Relocation Payments—Nonresidential, permit the applicant to present allowable moving expenses and certify occupancy status, after having been displaced because of Federal acquisition of their real property.

The information required is obtained through application made by the displaced person or business to the funding agency for determination as to the specific amount of monies due under the law. The forms, through which application is made, require specific information since the Uniform Relocation Assistance and Real Property Acquisition Act allows for various amounts based upon each actual circumstance. Failure to make application to the agency would eliminate any basis for payment of claims.

Title of Collection: Claim for Relocation Payments—Residential, DI-381 and Claim for Relocation Payments—Nonresidential, DI-382.

OMB Control Number: 1084-0010.

Form Number: DI-381 and DI-382.

Type of Review: Extension of a currently approved collection.

Respondents/Affected Public: Individuals and businesses who are displaced because of Federal acquisitions of their real property.

Total Estimated Number of Annual Respondents: 24.

Total Estimated Number of Annual Responses: 24.

Estimated Completion Time per Response: 50 minutes.

Total Estimated Number of Annual Burden Hours: 20 Hours.

Respondent's Obligation: Required to Obtain or Retain a Benefit.

Frequency of Collection: As needed.

Total Estimated Annual Nonhour Burden Cost: This collection does not have a nonhour cost burden.

An agency may not conduct or sponsor and a person is not required to respond to a collection of information unless it displays a currently valid OMB control number.

The authority for this action is the Paperwork Reduction Act of 1995 (44 U.S.C. 3501 et seq.).

Dated: October 11, 2018.
Tammy L. Bagley,
Associate Director, Facilities and Property Management.

[FR Doc. 2018-22450 Filed 10-15-18; 8:45 am]

BILLING CODE 4334-63-P